DEPARTMENT OF HEALTH AND HUMAN SERVICES

Substance Abuse and Mental Health Services Administration

Reorganization of the Center for Mental Health Services

AGENCY: Substance Abuse and Mental Health Services Administration (SAMHSA), Department of Health and Human Services (HHS).

ACTION: Notice.

SUMMARY: Statement of Organization, Functions, and Delegations of Authority. The Substance Abuse and Mental Health Services Administration has modified its structure. This new organizational structure was approved by the Secretary of Health and Human Services on October 11, 2023, and became effective on October 26, 2023.

FOR FURTHER INFORMATION CONTACT: Tison Thomas, Deputy Director, Center for Mental Health Services, Substance Abuse and Mental Health Services Administration, Room 14E51, 5600 Fishers Lane, Rockville, MD 20857 Phone: 240-276-2896.

SUPPLEMENTARY INFORMATION: Part M of the SAMHSA Statement of Organization, Functions, and Delegations of Authority for HHS at 71 FR 19740, April 17, 2006, is amended to reflect changes of the functional statements for the Center for Mental Health Services (CMHS). This amendment reflects the addition of two new divisions.

President Biden, in his Unity Agenda, has underscored the utmost significance of providing mental health services to Americans who need it. HHS also seeks to provide innovative mental health treatment and recovery services for individuals suffering from serious mental illness (SMI) and children with serious emotional disturbances (SED). There has been a substantial increase in funding, which has provided over 2,600 grants and around 25 technical assistance centers to cater to mental health treatment and recovery services.

CMHS has taken the lead in addressing the mental health needs of Americans, focusing primarily on suicide prevention, developing and supporting a crisis continuum, improving children's mental health, school-based activities, and increasing access to and the quality of services through Certified Community Behavioral Health Clinics and evidence-based practices. However, despite these efforts, new innovations, research, and other treatment activities have not reached all those who are in need of mental health services. The proposed reorganization takes into account these and other factors, including the scope and span of grants and function, subject matter areas, age group focus (children versus adults), and geographic focus (community versus state).

In order to enhance administrative and operational efficiencies, CMHS proposes that each division within the center should have two branches consisting of approximately 20 to 25 staff members in each newly-formed division. Currently, the two divisions consist of branches that have a different mission/focus. Having the divisions reorganized based on topic areas will assist with excellence in grant and contract administration. As a result, CMHS proposes to add two new divisions, which will create five divisions with two braches in each division. The new divisions are: Division of Children and School Mental Health (DCSMH) and the Division of Suicide Prevention and Community Supports (DSPCS).

Division of Children and School Mental Health

The realigned DCSMH will focus on children, youth, and young adults with SED or those who are at risk of developing SMI. The realigned division will be created by moving two existing branches from the Division of Trauma and Behavioral Health (DTBH). DTBH currently has two other branches that focus on disaster behavioral health and traumatic stress. The two branches in DCSMH will be, the Child Adolescent and Family Branch (CAFB) and the Mental Health Promotion Branch (MHPB). This new division will help CMHS have dedicated leadership focusing on children's mental health issues. The following major grant programs within these two branches align with the new division's mission.

CAFB primarily focuses on providing services for children, youth, and young adults with and/or at risk for SMI and/or SED. The CAFB programs aim to support these individuals and their families by improving mental health outcomes. The branch manages the Comprehensive Community Mental Health Services for Children with Serious Emotional Disturbance (Children's Mental Health Initiative or CMHI), authorized under Sections 561 through 565 of the Public Health Service Act (PHSA), 42 U.S.C. 290ff through 290ff-4, and provides grants to expand and sustain services for children and youth, birth through age 21, who are at risk for or have SED. The Clinical High Risk for Psychosis program is a set-aside of CMHI, and the most recent authorization was included in the Consolidated Appropriations Act, 2023, Public Law 117-328. The branch also has a few additional grants through the Projects of Regional and National Significance (PRNS) and contracts.

The MHPB primarily focuses on mental health promotion and early intervention programs. The MHPB programs include infant and early childhood mental health (Section 399Z-2 of the PHSA, 42 U.S.C. 280h-6), Trauma-Informed Services in Schools (Section 7134 of Pub. L. 115-271, 42 U.S.C. 280h-7), mental health awareness training (Section 520J of the PHSA, 42 U.S.C. 290bb-41), and the Center of Excellence for Eating Disorders (Section 520N of the PHSA, 42 U.S.C. 290bb-45). Additionally, the MHPB oversees Project AWARE, authorized under Section 520A of the PHSA 42 U.S.C. 290bb-32 (PRNS) and Section 520B of the PHSA 42 U.S.C. 290bb-33 (student suicide prevention piece), which includes specific provisions for mental health initiatives and student suicide prevention training. The branch also has a few additional grants through the PRNS and contracts.

Division of Suicide Prevention and Community Supports

The realigned DSPCS will focus on community-based grants and suicide prevention programs. The proposed division will be created by moving two of the existing branches from the Division of Community Behavioral Health (DCBH). DCBH has two other branches., the Comprehensive Services and Integration Branch and the Comprehensive Services and Systems Branch. The two branches that will be in the DSPCS will be the Suicide Prevention Branch (SPB) and the Community Support Programs Branch (CSPB). Having these two branches within a new division will give an added focus on suicide prevention and community based, evidence-based grant programs. The major grant programs within these two branches are as follows.

SPB plays a crucial role in suicide prevention efforts. The Garrett Lee Smith Campus Suicide Prevention Program is authorized under Section 520E-2 of PHSA, 42 U.S.C. 290bb-36b, while the Garrett Lee Smith State/Tribal Suicide Prevention Program is authorized under Section 520E of PHSA, 42 U.S.C. 290bb-36. The Mental Health Crisis Response Partnership Pilot Program is authorized under Section 520F of the PHSA, 42 U.S.C. 290bb-37. The National Strategy for Suicide Prevention grant program is authorized under Section 520L of PHSA, 42 U.S.C. 290bb-43, and the Zero Suicide initiative is codified under the same citation. The branch also has few additional grants through the PRNS and contracts.

CSPB focuses on developing effective community-based treatment and recovery support services for individuals with serious mental illness. The programs within this branch include, the Assertive Community Treatment Grant Program, authorized under Section 520M of the PHSA, 42 U.S.C. 290bb-44, the Assisted Outpatient Treatment Grant Program for Individuals With SMI, authorized under Section 224 of the Protecting Access to Medicare Act, 42 U.S.C. 290aa-17, focuses on assisting individuals with SMI in accessing necessary outpatient treatment. The CSPB also oversees grants for the benefit of homeless individuals, authorized under Section 506 of the PHSA, 42 U.S.C. 290aa-5, and the Law Enforcement and Behavioral Health Partnerships for Early Diversion program, authorized under Section 520G of the PHSA, 42 U.S.C. 290bb-38. The branch also has few additional grants through the PRNS and contracts.

Delegations of Authority

All delegations and redelegations of authority to officers and employees of SAMHSA which were in effect immediately prior to the effective date of this reorganization shall continue to be in effect.

Authority: 44 U.S.C. 3101.

Xavier Becerra,
Secretary of Health and Human Services.

[FR Doc. 2023-23805 Filed 10-26-23; 8:45 am]

BILLING CODE 4162-20-P